DEPARTMENT OF DEFENSE

GENERAL SERVICES ADMINISTRATION

NATIONAL AERONAUTICS AND SPACE ADMINISTRATION

48 CFR Part 4

[FAC 2005-05; Item VI]

Federal Acquisition Regulation; Technical Amendment

AGENCIES: Department of Defense (DoD), General Services Administration (GSA), and National Aeronautics and Space Administration (NASA).

ACTION: Final rule.

SUMMARY: This document makes an amendment to the Federal Acquisition Regulation (FAR) in order to make an editorial correction.

DATES: Effective Date: July 27, 2005.

FOR FURTHER INFORMATION CONTACT: The FAR Secretariat, Room 4035, GS Building, Washington, DC, 20405, (202) 501-4755, for information pertaining to status or publication schedules. Please cite FAC 2005-05, Technical Amendment.

List of Subjects in 48 CFR Part 4

Government procurement.

Dated: July 20, 2005.
Julia B. Wise,
Director, Contract Policy Division.

Therefore, DoD, GSA, and NASA amend 48 CFR part 4 as set forth below:

PART 4—ADMINISTRATIVE MATTERS

1. The authority citation for 48 CFR part 4 is revised to read as follows:

Authority: 40 U.S.C. 121(c); 10 U.S.C. chapter 137; and 42 U.S.C. 2473(c).

4.1102 [Amended]

2. Amend section 4.1102 by removing from paragraph (c)(1)(ii) “52.204-7(g)(1)(i)(3)” and adding “52.204-7(g)(1)(i)(C)” in its place.

[FR Doc. 05-14671 Filed 7-26-05; 8:45 am]

BILLING CODE 6820-EP-S